ENVIRONMENTAL PROTECTION AGENCY

40 CFR Part 300

[EPA-HQ-SFUND-2007-0021; FRL-8323-6]

National Oil and Hazardous Substances Pollution Contingency Plan; Responsibility and Organization for Response; General Organization Concepts

AGENCY: Environmental Protection Agency (EPA).

ACTION: Final rule; technical correction.

SUMMARY: The Environmental Protection Agency issued a final rule in the Federal Register on September 15, 1994 that revised the National Contingency Plan to incorporate amendments to the Clean Water Act that were enacted with the Oil Pollution Act of 1990. This document is being issued to update one of the figures, “U.S. Coast Guard Districts —Atlantic and Pacific Area Commands,” found in the National Contingency Plan. The United States Coast Guard revised their District boundaries in November 2006.

DATES: This final rule is effective on July 9, 2007.

ADDRESSES: EPA has established a docket for this action under Docket ID No. EPA-HQ-SFUND-2007-0021. All documents in the docket are listed on the www.regulations.gov Web site. Although listed in the index, some information is not publicly available, e.g., CBI or other information whose disclosure is restricted by statute. Certain other material, such as copyrighted material, is not placed on the Internet and will be publicly available only in hard copy form. Publicly available docket materials are available either electronically through www.regulations.gov or in hard copy at the Superfund Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Superfund Docket is (202) 566-0276.

FOR FURTHER INFORMATION CONTACT: Lynn Beasley, Regulation and Policy Development Division, Office of Emergency Management (5104A), Environmental Protection Agency, 1200 Pennsylvania Ave., NW., Washington, DC 20460; telephone number: (202) 564-1965; fax number: (202) 564-2625; e-mail address: beasley.lynn@epa.gov.

SUPPLEMENTARY INFORMATION:

I. General Information

A. Does This Action Apply to Me?

Type of entity | Examples of affected entities
Federal Agencies | Agencies with responsibilities for planning and response under the CWA, CERCLA, and the OPA.
State and Local Governments | Governing bodies responsible for planning, preparedness and response activities; Area Committees responsible for developing, under On-Scene Coordinator direction, Area Contingency Plans.
Responsible Parties | Those entities responsible for the discharge of oil or release of a hazardous substance, pollutant or contaminant.

This table is not intended to be exhaustive, but rather provides a guide for readers regarding entities likely to be regulated by this action. This table lists the types of entities that EPA is now aware could potentially be regulated by this action. Other types of entities not listed in the table could also be regulated. If you have questions regarding the applicability of this action to a particular entity, consult the person listed in the preceding FOR FURTHER INFORMATION CONTACT section.

B. How Can I Get Copies of This Document and Other Related Information?

The instructions provided under the Federal Register document of September 15, 1994, (59 FR 47384), are no longer current. The current information is as follows:

• Docket ID No. EPA-HQ-SFUND-2007-0021.

• Federal eRulemaking Portal: http://www.regulations.gov.

• In addition to using www.regulations.gov, you may access this Federal Register document electronically through the EPA Internet under the “Federal Register” listings at http://www.epa.gov/fedrgstr/.

II. What Does This Correction Do?

On September 15, 1994, (59 FR 47384) EPA published revisions to the National Oil and Hazardous Substances and Pollution Contingency Plan (NCP). The Oil Pollution Act of 1990 (OPA) amended certain provisions of the Clean Water Act (CWA) and created major new authorities that addressed oil and, to a lesser extent, hazardous substance spill response. The amended CWA required the President to revise the NCP to reflect these changes. The OPA specified a number of revisions to the NCP that enhanced and expanded upon the existing framework, standards, and procedures for response. The NCP is found in 40 CFR part 300. Section 300.105 provides general organization concepts to show the basic framework for the response management structure in the NCP. Section 300.105(e)(3) includes the United States Coast Guard (USCG) District boundaries in Figure 3, “U.S. Coast Guard Districts Atlantic and Pacific Area Commands.” The USCG revised their District boundaries and the map is now incorrect. This technical correction provides the revised map depicting the USCG District boundaries.

III. Why Is This Correction Issued as a Final Rule?

Section 553 of the Administrative Procedure Act (APA), 5 U.S.C. 553(b)(B), provides that, when an agency for good cause finds that notice and public procedure are impracticable, unnecessary or contrary to the public interest, the agency may issue a final rule without providing notice and an opportunity for public comment. EPA has determined that public comment on this technical correction is unnecessary, because EPA is merely correcting information that has become out of date since the previously published final rule. The USCG District boundaries found in the Figure at 40 CFR 300.105(e)(3) have changed since the September 15, 1994, publication of the final rule. This change has no effect on the substantive requirements of the NCP.

IV. Do Any of the Statutory and Executive Order Reviews Apply to This Action?

The applicable statutory and Executive Order reviews were included in the September 15, 1994, Federal Register document. This document is a technical correction and as such no new review requirements are applicable.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will be effective on July 9, 2007.

List of Subjects in 40 CFR Part 300

Environmental protection, Air pollution control, Chemicals, Hazardous substances, Hazardous waste, Intergovernmental relations, Natural resources, Reporting and recordkeeping requirements, Superfund, Water pollution control, Water supply.

Dated: June 4, 2007.
Susan Parker Bodine,
Assistant Administrator, Office of Solid Waste and Emergency Response.

For the reasons set out above, title 40, chapter I of the Code of Federal Regulations is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Subpart B—[Amended]

2. Section 300.105 is amended by revising paragraph (e)(3) to read as follows:

§ 300.105 General organization concepts.

* * * * *

(e) * * *

(3) The USCG District boundaries are shown in the following Figure 3:

BILLING CODE 6560-50-P

[FR Doc. 07-2847 Filed 6-7-07; 8:45 am]

BILLING CODE 6560-50-C